DEPARTMENT OF COMMERCE

International Trade Administration

[A-489-805]

Certain Pasta From Turkey: Rescission of Antidumping Duty Administrative Review; 2016-2017

AGENCY: Enforcement and Compliance, International Trade Administration, Department of Commerce.

SUMMARY: The Department of Commerce (Commerce) is rescinding its administrative review of the antidumping duty order on certain pasta from Turkey for the period of review (POR) July 1, 2016, through June 30, 2017.

DATES: Applicable March 30, 2018.

FOR FURTHER INFORMATION CONTACT: Fred Baker, AD/CVD Operations, Office VI, Enforcement and Compliance, International Trade Administration, U.S. Department of Commerce, 1401 Constitution Avenue NW, Washington, DC 20230; telephone: (202) 482-2924.

SUPPLEMENTARY INFORMATION:

Background

On July 3, 2017, Commerce published in the Federal Register a notice of opportunity to request an administrative review of the antidumping duty order on certain pasta from Turkey for the POR.¹ Commerce received a timely request from Dakota Growers Pasta Company, Riviana Foods, Inc. (formerly New World Pasta Company) and Treehouse Foods, Inc. (formerly, The American Italian Pasta Company) (collectively, the petitioners), in accordance with section 751(a) of the Tariff Act of 1930, as amended (the Act), and 19 CFR 351.213(b), to conduct an administrative review of this antidumping duty order.²

¹ See Antidumping or Countervailing Duty Order, Finding, or Suspended Investigation; Opportunity to Request Administrative Review, 82 FR 30833 (July 3, 2017).

² See Letter from the petitioners, “Request for 2016-2017 Administrative Reviews of the Antidumping Duty Order on Certain Pasta from Turkey,” dated July 31, 2017.

On September 13, 2017, Commerce published in the Federal Register a notice of initiation with respect to Marsan Gida Sanayi ve Ticaret A.S. and Oba Makarnacilik Sanayi ve Ticaret A.S.³ On November 21, 2017, the petitioners timely withdrew their request for an administrative review.⁴

³ See Initiation of Antidumping and Countervailing Duty Administrative Reviews, 82 FR 42974, 42982 (September 13, 2017).

⁴ See Letter from the petitioners, “Certain Pasta from Turkey: Withdrawal of 2016-2017 Administrative Review Requests—Certain Pasta from Turkey,” dated November 21, 2017.

Rescission of Administrative Review

Pursuant to 19 CFR 351.213(d)(1), Commerce will rescind an administrative review, in whole or in part, if the parties that requested a review withdraw the request within 90 days of the date of publication of the notice of initiation of the requested review. The petitioners withdrew their request for review by the 90-day deadline, and no other party requested an administrative review of this order. Therefore, we are rescinding the administrative review of the antidumping duty order on pasta from Turkey covering the period July 1, 2016, through June 30, 2017.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue appropriate assessment instructions to CBP 15 days after publication of this notice in the Federal Register.

Notification to Importers

This notice serves as the only reminder to importers of their responsibility, under 19 CFR 351.402(f)(2), to file a certificate regarding the reimbursement of antidumping duties prior to liquidation of the relevant entries during this review period. Failure to comply with this requirement may result in the presumption that reimbursement of antidumping duties occurred and the subsequent assessment of double antidumping duties.

Notification Regarding Administrative Protective Orders

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is published in accordance with section 777(i)(1) of the Act, and 19 CFR 351.213(d)(4).

Dated: March 26, 2018.
James Maeder,
Associate Deputy Assistant Secretary for Antidumping and Countervailing Duty Operations, performing the duties of Deputy Assistant Secretary for Antidumping and Countervailing Duty Operations.

[FR Doc. 2018-06463 Filed 3-29-18; 8:45 am]

BILLING CODE 3510-DS-P